SECURITIES AND EXCHANGE COMMISSION

[Release No. 34-74535; File No. SR-NYSEMKT-2015-18]

Self-Regulatory Organizations; NYSE MKT LLC; Notice of Filing and Immediate Effectiveness of Proposed Rule Change Amending Rule 900.3NY(w) and Rule 980NY(d)(1) to Delete the PNP Plus Designation for Electronic Complex Orders From Its Rules

March 19, 2015.

Pursuant to Section 19(b)(1) ¹ of the Securities Exchange Act of 1934 (the “Act”) ² and Rule 19b-4 thereunder,³ notice is hereby given that on March 12, 2015, NYSE MKT LLC (the “Exchange” or “NYSE MKT”) filed with the Securities and Exchange Commission (the “Commission”) the proposed rule change as described in Items I and II below, which Items have been prepared by the self-regulatory organization. The Commission is publishing this notice to solicit comments on the proposed rule change from interested persons.

¹ 15 U.S.C. 78s(b)(1).

² 15 U.S.C. 78a.

³ 17 CFR 240.19b-4.

I. Self-Regulatory Organization's Statement of the Terms of Substance of the Proposed Rule Change

The Exchange proposes to amend Rule 900.3NY(w) (Orders Defined) and Rule 980NY(d)(1) (Complex Order Trading) to delete the PNP Plus designation for Electronic Complex Orders from its rules. The text of the proposed rule change is available on the Exchange's Web site at www.nyse.com, at the principal office of the Exchange, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Exchange proposes to amend Rule 900.3NY(w) and Rule 980NY(d)(1) to delete the PNP Plus designation for Electronic Complex Orders from its rules.

PNP Plus Orders

The PNP Plus order type was designed to provide ATP Holders with additional processing capability in order to control the circumstances under which their Electronic Complex Orders are executed. However, due to little demand for PNP Plus orders, the Exchange proposes to discontinue functionality supporting the order type.

Pursuant to Rule 900.3NY(w), an Electronic Complex Order designated as PNP Plus (“PNP Plus”) is automatically re-priced by the Exchange at an MPV greater (less than) the contra-side Complex BBO (as defined in Rule 900.2NY(7)) for any or all of the order that remains unexecuted and would otherwise lock or cross the Complex BBO should it be displayed in the Consolidated Book. The re-priced PNP Plus is then posted in the Consolidated Book. The Electronic Complex Order designated as PNP Plus continues to be re-priced at an MPV greater (less than) than the Complex BBO and re-posted in the Consolidated Book, with each change in the Complex BBO, until such time as the Complex BBO has moved to a price where the original limit price of the order no longer locks or crosses the Complex BBO, at which time the Electronic Complex Order designated as PNP Plus will revert to its original limit price. PNP Plus orders are ranked in the Consolidated Book pursuant to Rule 980NY(b) and assigned a new price time priority as of the time of each re-posting.

Given the lack of demand for PNP Plus orders, the Exchange proposes to decommission the order type and delete the definition of PNP Plus from Rule 900.3NY(w). The Exchange proposes to hold Rule 900.3NY(w) as Reserved. Similarly, the Exchange proposes to delete the reference to “Limit Orders designated as PNP Plus” from Rule 980NY(d)(1) regarding the types of allowable Electronic Complex Orders. As proposed Rule 980NY(d)(1) would state that “Electronic Complex Order must be designated as Limit Orders.”

The Exchange believes the proposed change would assist with the maintenance of fair and orderly markets because it would reduce the complexity of order types available to market participants and would help clarify the nature of order types available for trading on the Exchange.

Implementation

The Exchange will announce the implementation date of this change through a Trader Update.

2. Statutory Basis

The proposed rule change is consistent with Section 6(b) of the Securities Exchange Act of 1934 (the “Act”),⁴ in general, and furthers the objectives of Section 6(b)(5),⁵ in particular, in that it is designed to prevent fraudulent and manipulative acts and practices, to promote just and equitable principles of trade, to foster cooperation and coordination with persons engaged in facilitating transactions in securities, and to remove impediments to and perfect the mechanism of a free and open market and a national market system. Specifically, the Exchange believes that by eliminating a little-used order type the proposal would assist with the maintenance of fair and orderly markets because it would reduce the complexity of order types available to market participants, thereby adding transparency and clarity to the Exchange's rules, and would help clarify the nature of order types available for trading on the Exchange. The Exchange further believes that deleting an order type rarely used by investors also removes impediments to and perfects the mechanism of a free and open market by ensuring that members, regulators and the public can more easily navigate the Exchange's rulebook and better understand the order types available for trading on the Exchange. Moreover, the Exchange believes that the elimination of the PNP Plus order type would simplify order processing and reduce the burden on system capacity, which the Exchange believes is consistent with promoting just and equitable principles of trade as well as protecting investors and the public interest.

⁴ 15 U.S.C. 78f(b).

⁵ 15 U.S.C. 78f(b)(5).

B. Self-Regulatory Organization's Statement on Burden on Competition

The Exchange does not believe that the proposed rule change will impose any burden on competition that is not necessary or appropriate in furtherance of the purposes of the Act. Specifically, the Exchange believes that the proposed rule change would relieve a burden on competition by eliminating an order type and streamlining the Exchange's rules. In doing so, the proposed rule change would also serve to promote regulatory clarity and consistency, thereby reducing burdens on the marketplace and facilitating investor protection.

C. Self-Regulatory Organization's Statement on Comments on the Proposed Rule Change Received From Members, Participants, or Others

No written comments were solicited or received with respect to the proposed rule change.

III. Date of Effectiveness of the Proposed Rule Change and Timing for Commission Action

The Exchange has filed the proposed rule change pursuant to Section 19(b)(3)(A)(iii) of the Act ⁶ and Rule 19b-4(f)(6) thereunder.⁷ Because the proposed rule change does not: (i) Significantly affect the protection of investors or the public interest; (ii) impose any significant burden on competition; and (iii) become operative prior to 30 days from the date on which it was filed, or such shorter time as the Commission may designate, if consistent with the protection of investors and the public interest, the proposed rule change has become effective pursuant to Section 19(b)(3)(A) of the Act and Rule 19b-4(f)(6) thereunder.⁸

⁶ 15 U.S.C. 78s(b)(3)(A)(iii).

⁷ 17 CFR 240.19b-4(f)(6).

⁸ 17 CFR 240.19b-4(f)(6). As required under Rule 19b-4(f)(6)(iii), the Exchange provided the Commission with written notice of its intent to file the proposed rule change, along with a brief description and the text of the proposed rule change, at least five business days prior to the date of filing of the proposed rule change, or such shorter time as designated by the Commission.

At any time within 60 days of the filing of such proposed rule change, the Commission summarily may temporarily suspend such rule change if it appears to the Commission that such action is necessary or appropriate in the public interest, for the protection of investors, or otherwise in furtherance of the purposes of the Act. If the Commission takes such action, the Commission shall institute proceedings under Section 19(b)(2)(B) of the Act ⁹ to determine whether the proposed rule change should be approved or disapproved.

⁹ 15 U.S.C. 78s(b)(2)(B).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-NYSEMKT-2015-18 on the subject line.

Paper Comments

• Send paper comments in triplicate to Brent J. Fields, Secretary, Securities and Exchange Commission, 100 F Street NE., Washington, DC 20549-1090.

All submissions should refer to File Number SR-NYSEMKT-2015-18. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of the filing also will be available for inspection and copying at the NYSE's principal office and on its Internet Web site at www.nyse.com. All comments received will be posted without change; the Commission does not edit personal identifying information from submissions. You should submit only information that you wish to make available publicly. All submissions should refer to File Number SR-NYSEMKT-2015-18 and should be submitted on or before April 15, 2015.

¹⁰ 17 CFR 200.30-3(a)(12).

For the Commission, by the Division of Trading and Markets, pursuant to delegated authority.¹⁰
Brent J. Fields,
Secretary.

[FR Doc. 2015-06713 Filed 3-24-15; 8:45 am]

BILLING CODE 8011-01-P